DEPARTMENT OF HEALTH AND HUMAN SERVICES

[Docket No. HHS-OS-2010-0033; OCIIO-9984-N]

The Consumer Operated and Oriented Plan (CO-OP) Advisory Board; Office of Consumer Information and Insurance Oversight, January 13, 2011

AGENCY: Office of Consumer Information and Insurance Oversight (OCIIO), HHS.

ACTION: Notice of meeting.

SUMMARY: This notice announces a forthcoming meeting of an advisory committee of the Office of Consumer Information and Insurance Oversight (OCIIO) in accordance with the Federal Advisory Committee Act. The meeting is open to the public. The purpose of the meeting is to assist and advise the Secretary and Congress through the Department of Health and Human Services' Office of Consumer Information and Insurance Oversight (OCIIO) on the Department's strategy to foster the creation of qualified nonprofit health insurance issuers. Specifically, the Committee shall advise the Secretary and Congress concerning the award of grants and loans related to Section 1322 of the Affordable Care Act. In these matters, the Committee shall consult with all components of the Department, other federal entities, and non-federal organizations, as appropriate; and examine relevant data sources to assess the grant and loan award strategy to provide recommendations to OCIIO. Notice of this meeting is given under the Federal Advisory Committee Act (Pub. L. No. 92-463, 5 U.S.C., App. 2).

DATES: Meeting Date: January 13, 2011 from 8 a.m. to 5 p.m., eastern standard time (e.s.t.).

Deadline for Meeting Registration, Presentations and Comments: January 6, 2011, 5 p.m., e.s.t.

Deadline for Requesting Special Accommodations: January 6, 2011, 5 p.m., e.s.t.

ADDRESSES: Meeting Location: Jurys Hotel, 1500 New Hampshire Ave., NW., Washington, DC 20036.

Meeting Online Access: To participate in this meeting via the Internet, go to http://www.readyshow.com/ and enter participant code 78030350.

Meeting Phone Access: To participate in this meeting via phone, please dial into the toll free phone number 1-877-366-0711, and enter the phone number password 78030350#.

Meeting Registration, Presentations, and Written Comments: Brian Chiglinsky, Office of Consumer Information and Insurance Oversight, HHS, 200 Independence Avenue, SW., Washington, DC 20201, 202-260-6090, Fax: 202-260-6108, or contact by e-mail at brian.chiglinsky@hhs.gov.

Registration: The meeting is open to the public, but attendance is limited to the space available. Persons wishing to attend this meeting must register by contacting the Analyst at the address listed in the ADDRESSES section of this notice or by telephone at number listed in the FOR FURTHER INFORMATION CONTACT section of this notice, by the date listed in the DATES section of this notice.

FOR FURTHER INFORMATION CONTACT: Brian Chiglinsky, 202-260-6090. Press inquiries are handled through OCIIO's Press Office at (202) 690-6343.

SUPPLEMENTARY INFORMATION:

I. Background

The purpose of the meeting is to assist and advise the Secretary and Congress through the Department of Health and Human Services' Office of Consumer Information and Insurance Oversight (OCIIO) on the Department's strategy to foster the creation of qualified nonprofit health insurance issuers. Specifically, the Committee shall advise the Secretary and Congress concerning the award of grants and loans related to Section 1322 of the Affordable Care Act. In these matters, the Committee shall consult with all components of the Department, other federal entities, and non-federal organizations, as appropriate; and examine relevant data sources to assess the grant and loan award strategy to provide recommendations to OCIIO.

II. Meeting Agenda

The committee will hear testimony from a number of individuals with experience and expertise in the market for health insurance and nonprofit cooperative health issuers. OCIIO intends to make background material available to the public no later than two (2) business days prior to the meeting. If OCIIO is unable to post the background material on its Web site prior to the meeting, it will be made publicly available at the location of the advisory committee meeting, and the background material will be posted on OCIIO's Web site after the meeting, at http://hhs.gov/ociio.

Oral comments from the public will be scheduled between approximately 3 p.m. to 4 p.m. Individuals or organizations that wish to make a 3-minute oral presentation on an agenda topic should submit a written copy of the oral presentation to the DFO at the address listed in the ADDRESSES section of this notice by the date listed in the DATES section of this notice. The number of oral presentations may be limited by the time available. Persons attending OCIIO's advisory committee meetings are advised that the agency is not responsible for providing access to electrical outlets. If the number of speakers requesting to comment is greater than can be reasonably accommodated during the scheduled open public comment session, OCIIO will take written comments after the meeting until close of business. Individuals not wishing to make a presentation may submit written comments to the DFO at the address listed in the ADDRESSES section of this notice by the date listed in the DATES section of this notice.

Individuals requiring sign language interpretation or other special accommodations must contact the DFO via the contact information specified in the FOR FURTHER INFORMATION CONTACT section of this notice by the date listed in the DATES section of this notice.

OCIIO is committed to the orderly conduct of its advisory committee meetings. Please visit our Web site at http://www.hhs.gov/ociio for procedures on public conduct during advisory committee meetings.

Dated: December 21, 2010.
Barbara Smith,
Associate Director, Consumer Operated and Oriented Plan Program, Office of Consumer Information and Insurance Oversight.

[FR Doc. 2010-32649 Filed 12-27-10; 8:45 am]

BILLING CODE 4150-45-P